POSTAL SERVICE

39 CFR Part 111

Insurance Claims Process Changes

AGENCY: Postal Service.™

ACTION: Final rule.

SUMMARY: The Postal Service is revising its regulations governing the processing and adjudication of domestic mail insurance claims in order to streamline the claims process and to provide customers with more consistent service.

DATES: Effective Date: May 11, 2009.

FOR FURTHER INFORMATION CONTACT: Monica Grein, 202-268-8411.

SUPPLEMENTARY INFORMATION: On January 27, 2009, the Postal Service published a proposed rule in the Federal Register (Volume 74, Number 16, pages 4727-4729), inviting comments on a set of proposed revisions to the procedures governing the processing and adjudication of domestic mail insurance claims. One set of comments was received. After reviewing those comments, and upon further consideration of the proposed revisions, the Postal Service has decided to adopt the proposed regulations with minor revisions described below.

As noted in the SUPPLEMENTARY INFORMATION section of the proposed rule, the Postal Service is revising its regulations to make the online claims processing service available to customers who purchase domestic insurance through any retail channel—i.e., USPS.com,® Automated Postal Center® kiosks, local Post Office™ facilities, or authorized PC Postage® providers. In addition, Express Mail® customers may file online claims, even if no additional insurance was purchased. Collect on Delivery (COD) and Registered Mail™ claims may be filed by mail or at a Post Office; however, they cannot be filed online.

Under this final rule, a customer may also file a claim by downloading a form from USPS.com and mailing it directly to Postal Service Accounting Services in St. Louis, MO, or continue to file the claim form at a local Post Office and have it sent to St. Louis for them.

To ensure consistency and service quality, all claims will now be adjudicated by Accounting Services. Local Post Office personnel will no longer adjudicate claims.

The damaged goods inspection policy for domestic claims is also changed. Customers must retain the damaged article and container, including packaging, wrapping, and any other contents received, until the claim is fully resolved. Customers are no longer required to take these materials to the Post Office at the time a claim is filed. Rather, upon receiving a request from the Postal Service, they are required to turn the materials over to their local Post Office for inspection, retention, and disposition in accordance with the claims decision.

The Registered Mail section is changed by updating the term “uninsured Registered Mail” to “Registered Mail with no declared value” to reflect current policy.

Evaluation of Comments Received

The Postal Service received one set of comments. In its submission, the commenter suggested that the Service adopt one consistent procedure for filing claims instead of different procedures for different mail types. All domestic claims, except COD and Registered Mail, can be filed online. The Postal Service appreciates the interest in a uniform filing procedure, and will consider this interest as the claims procedures evolve.

The commenter also expressed concerns about the customer requirement to retain the contents and all packaging materials until the claim is fully processed. The commenter suggested that the Postal Service instead accept digital photographs as proof of damage or proof of missing contents, and allow packaging to be discarded, with the contents retained, pending final disposition. The Postal Service believes that the requirement to retain the contents and packaging is necessary and is consistent with standard industry practices. While photographs may be helpful, they are not a substitute for the actual materials at the basis of a claim and which the Postal Service may need to examine. Furthermore, a customer who files online may upload digital evidence of his or her damaged item, but will need to retain the item for possible examination by the Postal Service. The Postal Service is confident that the revised process improves the inspection requirements for customers, and will consider further improvements in the future.

The commenter also suggested that the Postal Service modify the timeframe within which a mailer may file an inquiry. The Postal Service has determined that this suggestion is outside the scope of this final rule.

Finally, the commenter suggested that a photocopy of a mailing receipt be acceptable as evidence of insurance as long as the copy matches the information on the package. After considering this comment, the Postal Service has revised section 3.1.a. to permit the submission of photocopies as acceptable evidence of insurance, except for claims involving Registered Mail or COD.

In addition, the Postal Service has made editorial changes to enhance the clarity of revised section 2.6.1 and section 1.6.3.

The Postal Service adopts the following changes to Mailing Standards of the United States Postal Service, Domestic Mail Manual (DMM®), which is incorporated by reference in the Code of Federal Regulations. See 39 CFR 111.1.

List of Subjects in 39 CFR Part 111

Administrative practice and procedure, Postal Service.

Accordingly, 39 CFR Part 111 is amended as follows:

PART 111—[AMENDED]

1. The authority citation for 39 CFR Part 111 continues to read as follows:

Authority: 5 U.S.C. 552(a); 39 U.S.C. 101, 401, 403, 404, 414, 416, 3001-3011, 3201-3219, 3403-3406, 3621, 3622, 3626, 3632, 3633, and 5001.

2. Revise the following sections of Mailing Standards of the United States Postal Service, Domestic Mail Manual (DMM) as follows:

* * * * *

500 Additional Mailing Services

503 Extra Services

* * * * *

2.0 Registered Mail

* * * * *

[Revise heading of 2.6 as follows:]

2.6 Inquiry on Article With No Declared Value

2.6.1 Who May File

[Revise 2.6.1 to read as follows:]

If postal insurance was purchased, the claim procedures in 609 apply. The procedures in this section apply only to Registered Mail with no declared value. Only the mailer may file an inquiry on Registered Mail with no declared value. Only the permit holder may file an inquiry on Registered Mail with no declared value sent using merchandise return service.

[Revise the heading of 2.6.2 to read as follows:]

2.6.2 When and How To File

[Revise introductory paragraph to read as follows, and delete items 2.6.2a, 2.6.2b, and 2.6.2c in their entirety:]

The mailer may not file any inquiry until 15 days after the mailing date of the article. An inquiry may be filed at any Post Office, classified station, or classified branch, except for an inquiry about matter registered with merchandise return service, which must be filed by the permit holder at the Post Office where the permit is held. An inquiry for Registered Mail with no declared value must be filed by completing a PS Form 1000, Domestic or International Claim, which may be obtained from any Post Office or online at www.usps.com/forms/_pdf/ps1000.pdf.

* * * * *

600 Basic Standards for All Mailing Services

* * * * *

609 Filing Indemnity Claims for Loss or Damage

1.0 General Filing Instructions

* * * * *

1.5 Where To File

[Revise 1.5 to read as follows:]

A claim may be filed:

a. Via mail to Domestic Claims, Accounting Services (see 608.8) for insured mail, Registered Mail, COD, and Express Mail.

b. Online at http://www.usps.com/insuranceclaims/online.htm for domestic insured mail and Express Mail. Claims for COD and Registered Mail cannot be filed online.

c. By submitting the required information at any Post Office facility for mailing to Accounting Services in St. Louis.

* * * * *

1.6 How To File

[Revise 1.6 by deleting existing text and adding 1.6.1, 1.6.2, and 1.6.3 to read as follows:]

1.6.1 Claims Filed by Mail

Customers may file a claim by completing a PS Form 1000, Domestic or International Claim, and mailing it to Domestic Claims, Accounting Services (see 608.8). Customers may print PS Form 1000 from http://www.usps.com/insuranceclaims. Evidence of value is required and must accompany the PS Form 1000. Evidence of insurance must be retained by the customer until the claim is resolved. For Express Mail COD and Registered Mail COD claims, the customer must provide both the original COD receipt and the Express Mail receipt or the Registered Mail receipt. Upon written request by the USPS, the customer must submit proof of damage (see 2.0) for damaged items or missing contents, in person to a local Post Office for inspection, retention, and disposition in accordance with the claims decision.

1.6.2 Claims Filed Online

Customers may file a claim online for insured mail and Express Mail at http://www.usps.com/insuranceclaims/online.htm. Evidence of value is required and may be submitted as an uploaded file or sent via First-Class Mail to Domestic Claims, Accounting Services (see 608.8). Evidence of insurance must be retained by the customer until the claim is resolved. Upon written request by the USPS, the customer must submit proof of damage (see 2.0) for damaged items or missing contents, in person to a local Post Office for inspection, retention, and disposition in accordance with the claims decision. COD and Registered Mail claims cannot be filed online.

1.6.3 Claims Filed at the Post Office

A customer may file PS Form 1000 at a local Post Office, which will then forward the form to Accounting Services in St. Louis. Customers may print PS Form 1000 from http://www.usps.com/insuranceclaims. Evidence of value is required and must accompany the PS Form 1000. Evidence of insurance must be retained by the customer until the claim is resolved. For Express Mail COD and Registered Mail COD claims, the customer must provide both the original COD receipt and the Express Mail receipt or the Registered Mail receipt. Upon written request by the USPS, the customer must submit proof of damage (see 2.0) for damaged items or missing contents, in person to a local Post Office for inspection, retention, and disposition in accordance with the claims decision.

* * * * *

2.0 Providing Proof of Loss or Damage

2.1 Missing Contents

[Revise the first sentence of 2.1 to read as follows:]

If a claim is filed because some or all of the contents are missing, the addressee must retain the mailing container, including wrapping, packaging, and any contents that were received, and must, upon written request by the USPS, make them available to the local Post Office for inspection, retention, and disposition in accordance with the claims decision. * * *

2.2 Proof of Damage

[Revise the first and second sentences of 2.2 to read as follows:]

If the addressee files the claim, the addressee must retain the damaged article and mailing container, including wrapping, packaging, and contents, and must, upon written request by the USPS, make them available for inspection. If the mailer files the claim, Accounting Services in St. Louis may notify the addressee by letter to present the damaged article and mailing container, including any wrapping, packaging, and any other contents received, to a local Post Office for inspection, retention, and disposition in accordance with the claims decision. * * *

* * * * *

3.0 Providing Evidence of Insurance and Value

3.1 Evidence of Insurance

[Revise introductory paragraph and item 3.1a to read as follows:]

For a claim involving insured mail, Registered Mail, COD, or Express Mail, the customer must retain evidence showing that the particular service was purchased until the claim is resolved. Examples of acceptable evidence of insurance are:

a. The original mailing receipt issued at the time of mailing (retail insured mail, Registered Mail, and COD receipts must contain a USPS postmark). Except for Registered Mail and COD claims, a photocopy of the original mailing receipt is acceptable. If the original mailing receipt, or a photocopy of such receipt, is not available, the original USPS sales receipt listing the mailing receipt number and insurance amount is acceptable. Customers filing online claims may scan the receipt and submit as an uploaded file.

* * * * *

[Delete item 3.1d, and redesignate current items 3.1e and 3.1f as 3.1d and 3.1e.]

* * * * *

3.2 Evidence of Value

[Revise introductory paragraph of 3.2 to add online option as follows:]

The customer (either the mailer or the addressee) must submit acceptable evidence to establish the cost or value of the article at the time it was mailed. For claims submitted online, the evidence may be scanned and uploaded or sent via First-Class Mail to Domestic Claims, Accounting Services (see 608.8.0). Other evidence may be requested to help determine an accurate value. Examples of acceptable evidence are:

* * * * *

6.0 Adjudication of Claims

6.1 Initial Adjudication of Claims

[Revise 6.1 to read as follows:]

Accounting Services in St. Louis adjudicates and determines whether to uphold a claim in full, uphold a claim in part, or deny a claim in full. Domestic insurance claims may be filed online through http://www.usps.com/insuranceclaims/online.htm, via mail to Domestic Claims Accounting Services (see 608.8), or by filing it at a local Post Office. Claims for COD and Registered Mail cannot be filed online.

6.2 Appealing a Claim Decision

[Revise 6.2 to read as follows:]

A customer may appeal a claim decision by filing a written appeal to Domestic Claims Appeals, Accounting Services (see 608.8) within 60 days of the date of the original decision. A customer may also appeal a claim decision online through http://www.usps.com/insuranceclaims/online.htm if the original claim was filed online.

6.3 Final USPS Decision of Claims

[Revise text of 6.3 by adding a new last sentence as follows:]

* * * The customer may file the additional appeal online if the original appeal was filed online.

* * * * *

We will publish an appropriate amendment to 39 CFR part 111 to reflect these changes.

Neva R. Watson,
Attorney, Legislative.

[FR Doc. E9-8038 Filed 4-8-09; 8:45 am]

BILLING CODE 7710-12-P